DEPARTMENT OF AGRICULTURE

Animal and Plant Health Inspection Service

9 CFR Part 93

[Docket No. APHIS-2008-0112]

RIN 0579-AD31

Importation of Horses From Contagious Equine Metritis-Affected Countries

AGENCY: Animal and Plant Health Inspection Service, USDA.

ACTION: Interim rule; delay of enforcement and reopening of comment period.

SUMMARY: We are reopening the comment period for an interim rule that amended the regulations regarding the testing requirements for importation of horses from countries affected with contagious equine metritis. We are also delaying the enforcement of all provisions of the interim rule until a final rule is published and effective. This action will allow interested persons additional time to comment on the interim rule and provide the Animal and Plant Health Inspection Service with time to make adjustments to the interim rule that may be necessary in order to successfully implement it.

DATES: Enforcement of the interim rule amending 9 CFR part 93, published at 76 FR 16683-16686 on March 25, 2011, and delayed until July 25, 2011, in a document published at 76 FR 31220-31221 on May 31, 2011, is delayed until further notice. We will consider all comments that we receive on or before September 7, 2011. APHIS will publish a document in the Federal Register announcing any future action.

ADDRESSES: You may submit comments by either of the following methods:

• Federal eRulemaking Portal: Go to http://www.regulations.gov/#!documentDetail;D=APHIS-2008-0112-0020.

• Postal Mail/Commercial Delivery: Send your comment to Docket No. APHIS-2008-0112, Regulatory Analysis and Development, PPD, APHIS, Station 3A-03.8, 4700 River Road Unit 118, Riverdale, MD 20737-1238.

Supporting documents and any comments we receive on this docket may be viewed at http://www.regulations.gov/#!docketDetail;D=APHIS-2008-0112 or in our reading room, which is located in room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: Dr. Ellen Buck, Senior Staff Veterinarian, Equine Imports, National Center for Import and Export, VS, APHIS, 4700 River Road Unit 39, Riverdale, MD 20737-1231; (301) 734-8364.

SUPPLEMENTARY INFORMATION:

Background

The regulations in 9 CFR part 93 (referred to below as the regulations) prohibit or restrict the importation of certain animals into the United States to prevent the introduction of communicable diseases of livestock and poultry. “Subpart C—Horses,” §§ 93.300 through 93.326, pertains to the importation of horses into the United States. Sections 93.301 and 93.304 of the regulations contain specific provisions for the importation of horses from regions affected with contagious equine metritis (CEM), which is a highly contagious venereal disease of horses and other equines caused by an infection with the bacterium Taylorella equigenitalis.

On March 25, 2011, we published an interim rule in the Federal Register (76 FR 16683-16686, Docket No. APHIS-2008-0112) to amend the regulations regarding the importation of horses from countries affected with CEM by incorporating an additional certification requirement for imported horses 731 days of age or less and adding new testing protocols for test mares and imported stallions and mares more than 731 days of age. The provisions of the interim rule became effective upon publication.

On May 31, 2011, we published a document in the Federal Register (76 FR 31220-31221, Docket No. APHIS-2008-0112) to delay the enforcement of the interim rule until July 25, 2011. This action was taken after a request was made by affected entities to allow them additional time to adjust their operation procedures.

Delay of Enforcement

Based on comments received following the March 2011 interim rule, we are considering two changes to the interim rule. The interim rule required that three sets of cultures from imported stallions be collected for the detection of the CEM organism, with negative results obtained from at least two sets prior to test breeding. However, based on the comments received, we are considering amending the requirement so that only one set of cultures would be collected from an imported stallion with negative results prior to test breeding. The purpose of culturing a stallion prior to test breeding is to reduce the risk of infecting a test mare. Therefore, test breeding should not take place until negative culture results have been reported. Under the regulations, a stallion may be released from CEM quarantine only if all cultures and tests of specimens from the mares used for test breeding are negative for CEM and all cultures performed on specimens taken from the stallion are negative for CEM.

The interim rule also required that three sets of cultures be collected from imported mares and test mares with an additional culture sample taken from either the distal cervix or the endometrium. Based on the comments received, we are considering replacing that requirement with a provision that would require a culture to be collected from the distal cervix or the endometrium on the third set of cultures only.

We are reopening the comment period for 15 days to allow additional public comment on the March 2011 interim rule, and we particularly welcome comments on the modifications we are considering to those requirements described above.

Based on our review of the comments received to date, we consider it advisable to delay the enforcement of the interim rule until further notice. This additional time will allow APHIS to consider all comments and make adjustments to the interim rule that may be necessary in order to successfully implement it.

Accordingly, enforcement of the interim rule amending 9 CFR part 93, published at 76 FR 16683-16686 on March 25, 2011, and delayed until July 25, 2011, in a document published at 76 FR 31220-31221 on May 31, 2011, is delayed until further notice.

Authority: 7 U.S.C. 1622 and 8301-8317; 21 U.S.C. 136 and 136a; 31 U.S.C. 9701; 7 CFR 2.22, 2.80, and 371.4.

Done in Washington, DC, this 17th day of August 2011.
Gregory L. Parham,
Administrator, Animal and Plant Health Inspection Service.

[FR Doc. 2011-21524 Filed 8-22-11; 8:45 am]

BILLING CODE 3410-34-P